DEPARTMENT OF THE INTERIOR

Bureau of Indian Affairs

[156A2100DD/AAKC001030/A0A501010.999900 253G]

Sovereignty in Indian Education

AGENCY: Bureau of Indian Education, Interior.

ACTION: Notice of availability and request for proposals.

SUMMARY: The Bureau of Indian Education (BIE) announces the availability of enhancement funds to tribes and their tribal education agencies to promote tribal control and operation of BIE-funded schools on their reservations. This notice invites tribes with at least one BIE-funded school on their reservation/Indian land to submit grant proposals.

DATES: Grant proposals must be received by September 21, 2015, at 4:00 p.m. Eastern Time. BIE will hold pre-grant proposal training sessions. See SUPPLEMENTARY INFORMATION section for more information.

ADDRESSES: Complete details on requirements for proposals and the evaluation and selection process can be found on the BIE Web site at this address: www.bie.edu. Submit grant applications to: Bureau of Indian Education, Attn: Wendy Greyeyes, 1849 C Street NW., MS-4655-MIB, Washington, DC 20240. Email submissions will be accepted at this address: wendy.greyeyes@bie.edu. Limit email submissions to attachments compatible with Microsoft Office Word 2007 or later and files with a .pdf file extension. Emailed submissions may not exceed 3MB total in size. Fax submissions are NOT acceptable.

FOR FURTHER INFORMATION CONTACT: Ms. Wendy Greyeyes, Bureau of Indian Education, Office of the Director, Washington, DC 20240, (202) 208-5810.

SUPPLEMENTARY INFORMATION:

A. Background

In 2013, Secretary of the Interior and Secretary of Education convened an American Indian Education Study Group (Study Group) to diagnose the systemic challenges facing the Bureau of Indian Education (BIE) and to propose a comprehensive plan for reform to ensure all students attending BIE-funded schools receive a world-class education. The Study Group drafted a framework for reform based on several listening sessions in the fall of 2013 with tribal leaders, Indian educators and others throughout Indian Country on how to facilitate tribal sovereignty in American Indian education and how to improve educational outcomes for students at BIE-funded schools. Overall, the Study Group met with nearly 400 individuals and received nearly 200 comments that helped it prepare the draft framework for educational reform that became the subject of four tribal consultation sessions held in April and May of 2014. These efforts resulted in “Findings and Recommendations Prepared by the Bureau of Indian Education Study Group, dated June 27, 2014” (Blueprint for Reform).

Acting on the recommendations in the Blueprint, BIE will award enhancement funds to tribes and their tribal education agencies to promote tribal control and operation of BIE-funded schools on their Indian reservations. The purpose of these funds is to support the tribe's capacity to manage and operate tribally controlled schools as defined in the Tribally Controlled Schools Act of 1988 (Pub. L. 100-297). These funds will (a) support development of a school-reform plan to improve educational outcomes for students and (b) improve efficiencies and effectiveness in the operation of BIE-funded schools within a reservation.

Enhancement funding will range from $100,000 to $200,000 per fiscal year depending on the number of schools involved, number of students, complexity of creating a new tribally managed school system and the tribe's technical approach. These funds will provide funds for the tribe to:

• Research and develop an alternative definition of adequate yearly progress (AYP);

• Develop an implementation plan that will reform a tribe's current organizational structure towards an expert and independent tribal education agency that will support schools and students; and

• Cover the execution of the implementation plan with identified staffing, projected timelines, proposed budgets, and activities.

BIE is seeking proposals from tribes that support efforts to take control and operate BIE-funded schools located on the tribe's reservation. Each proposal must include a project narrative, a budget narrative, a work plan outline, and a Project Director to manage the execution of the grant. The Project Directors will participate in monthly collaboration meetings, submit quarterly budget updates, ensure an annual report is submitted at the end of each project year, and ultimately ensure that the tribal education agency fulfills the obligations of the grant. Complete details on requirements for proposals and the evaluation and selection process can be found on the BIE Web site at the address in the ADDRESSES section of this notice. In addition, BIE will hold pre-grant proposal training as noted below:

BIE Pre-Grant Proposal Training
Date | Time | Location
Tuesday, September 1, 2015 | 4:00 p.m. Eastern Time | Webinar Session (Washington, DC): To register, go to: https://dcma100.webex.com/dcma100/k2/j.php?MTID=t000e99c4e0d9f65d3114d32015e04a74
Thursday, September 8, 2015 | 11:00 a.m. Eastern Time | Webinar Session (Washington, DC) To register, got to: https://dcma100.webex.com/dcma100/k2/j.php?MTID=tf2b8f596b10eb0d91240198a49afcf89
Monday, September 21, 2015 | 4:00 p.m. Eastern Time | Deadline for grant proposal submission.

The grant proposal is due September 21, 2015, at 4:00 p.m. Eastern Time. The proposal should be packaged for delivery to permit timely arrival. The proposal package should be sent or hand delivered address in the ADDRESSES section of this notice.

Fax applications will NOT be accepted. Email submissions will be accepted at the address in the ADDRESSES section of this notice. Email submissions are limited to attachments compatible with Microsoft Office Word 2007 or later or files with a .pdf file extension. Emailed submissions shall not exceed 3MB total in size.

Proposals submitted by Federal Express or Express Mail should be sent two or more days prior to the closing date. The proposal package should be sent to the address shown in the ADDRESSES section of this notice. The tribe is solely responsible for ensuring its proposal arrives in a timely manner.

Dated: August 24, 2015.
Kevin K. Washburn,
Assistant Secretary—Indian Affairs.

[FR Doc. 2015-21338 Filed 8-27-15; 8:45 am]

BILLING CODE 4337-15-P